DEPARTMENT OF COMMERCE

National Oceanic and Atmospheric Administration

RIN 0648-XG616

North Pacific Fishery Management Council; Public Meeting

AGENCY: National Marine Fisheries Service (NMFS), National Oceanic and Atmospheric Administration (NOAA), Commerce.

ACTION: Notice of telephonic meeting.

SUMMARY: The North Pacific Fishery Management Council (Council) Ecosystem Committee will hold a teleconference on November 27, 2018.

DATES: The meeting will be held on Tuesday, November 27, 2018 from 1 p.m. to 4 p.m., Alaska Standard Time.

ADDRESSES: The meeting will be held telephonically. Teleconference line: (907) 271-2896.

Council address: North Pacific Fishery Management Council, 605 W 4th Ave., Suite 306, Anchorage, AK 99501-2252; telephone: (907) 271-2809.

FOR FURTHER INFORMATION CONTACT: Steve MacLean, Council staff; telephone: (907) 271-2809.

SUPPLEMENTARY INFORMATION:

Agenda

Tuesday, November 27, 2018

The meeting agenda includes review and discussion of the Bering Sea Fishery Ecosystem Plan. The Agenda is subject to change, and the latest version will be posted at: https://www.npfmc.org/committees/ecosystem-committee

Public Comment

Public comment letters will be accepted and should be submitted either electronically to Steve MacLean, Council staff: steve.maclean@noaa.gov or through the mail: North Pacific Fishery Management Council, 605 W 4th Ave., Suite 306, Anchorage, AK 99501-2252. Oral public testimony will be accepted at the discretion of the co-chairs.

Special Accommodations

These meetings are physically accessible to people with disabilities. Requests for sign language interpretation or other auxiliary aids should be directed to Shannon Gleason at (907) 271-2809 at least 7 working days prior to the meeting date.

Dated: November 6, 2018.
Tracey L. Thompson,
Acting Deputy Director, Office of Sustainable Fisheries, National Marine Fisheries Service.

[FR Doc. 2018-24599 Filed 11-8-18; 8:45 am]

BILLING CODE 3510-22-P